DEPARTMENT OF ENERGY

Federal Energy Regulatory Commission

[Docket No. EL06-88-000]

Dominion Nuclear Connecticut, Inc., Complainant v. the Connecticut Light and Power Company, Respondent; Notice of Complaint

July 26, 2006.

Take notice that on July 24, 2006, Dominion Nuclear Connecticut, Inc. (DNC), owner and operator of the Millstone Nuclear Power Station located in Waterford, Connecticut (Millstone) filed a formal complaint against The Connecticut Light and Power Company (CL&P) pursuant to section 206 of the Federal Power Act, and the Commission's rules and regulations, 18 CFR 385.206, alleging that CL&P unlawfully imposed charges for station power service it did not provide from December 1, 2005 through June 16, 2006, and has imposed and continues to impose retail service charges for Millstone after the December 1, 2005 effective date of DNC's notice terminating service.

DNC certifies that copies of the complaint were served on the contacts for CL&P as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 14, 2006.

Magalie R. Salas,
Secretary.

[FR Doc. E6-12383 Filed 8-1-06; 8:45 am]

BILLING CODE 6717-01-P